DEPARTMENT OF HEALTH AND HUMAN SERVICES

[Document Identifier: OS-0990-New]

Agency Emergency Information Collection Clearance Request for Public Comment

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 7-days.

Proposed Project: HAvBED Assessment for 2009-H1N1 Influenza Serious Illness, OMB No. 0990-NEW-HHS Office of the Assistant Secretary for Preparedness and Response (ASPR), Office of Preparedness and Emergency Operations (OPEO).

Abstract: The Office of the Secretary (OS) is requesting emergency action for this clearance by the Office of Management and Budget no later than August 28, 2009. ASPR is requesting emergency processing procedures for this application because this information is needed immediately to help reduce morbidity and mortality from 2009-H1N1 by providing decision makers with timely, usable information regarding the status of the health care system. The urgent timeline is supported by the fact that Americans are already becoming ill and even dying due to 2009-H1N1 infection, and that numerous countries in the Southern Hemisphere (who are currently experiencing their traditional influenza season) have had a large surge in seriously ill patients. The Southern Hemisphere experience is leading to valid anticipation of many additional seriously ill patients in the US over the upcoming months. During the spring and summer novel H1N1 response in the US, we did not have an adequate understanding of disease severity, health care system resource needs such as ventilators and ICU beds, and did not learn from our collective experiences caring for these seriously ill patients. If we do not develop a national data collection mechanism for seriously ill people infected with H1N1 then we cannot adequately support hospitals to care for these patients.

Pursuant to section 2811 of the PHS Act, the ASPR serves as the principal advisor to the Secretary on all matters related to Federal public health and medical preparedness and response for public health emergencies. In addition to other tasks, the ASPR coordinates with State, local, and tribal public health officials and healthcare systems to ensure effective integration of Federal public health and medical assets during an emergency. ASPR's National Hospital Preparedness Program (HPP) awards cooperative agreements to each of the 50 states, the Pacific Islands, and US territories (for a total of 62 awardees) to improve surge capacity and enhance community and hospital preparedness for public health emergencies. These 62 awardees are responsible for enhancing the preparedness of the nation's nearly 6000 hospitals. These awards are authorized under section 391C-2 of the Public Health Service (PHS) Act. For this data collection the 62 HPP awardees will gather data from the 6000 hospitals using a Web-based interface known as HAvBED. The data gathered from the hospitals will be reported to the HHS Secretary's Operations Center weekly for 6 months. If the seriousness of the stress on the hospitals increases daily reporting may be requested.

Depending on the nature of the existing systems at the hospitals, the data may be obtained manually or readily available electronically through existing systems. States would have their own procedures for training staff on how to use their existing systems, so there would not be an additional training burden for learning those systems. For manual data collection using the HAvBED system personnel would need to be trained. The system is easy to use and intuitive. The user guide provides information to help people quickly understand how to use the system. See Attachment 2 for a copy of the user guide. Based on the experience of the system administrator in working with users, training time to learn the HAvBED data entry procedures is no more than one hour. On average it takes 40 minutes of explanation and 20 minutes of hands on practice with the training site.

The actual data collection time for the hospitals is approximately 1 hour and the states will spend approximately 3 hours compiling the information from all of the hospitals in their State/territory. For automated systems the time would be less. These estimates are based on a pilot test of the system. This cost model assumes daily data collection over 3 months and weekly for 3 months.

6 Months Estimated Annualized Burden Hours
Type of respondent | Number of respondents | Number of responses/ respondent | Average burden hours per response | Total burden hours
Hospital staff (Training) | 6000 | 1 | 1 | 6000
Hospital staff (data collection) | 6000 | 96 | 1 | 576,000
State/Territory Preparedness staff (training) | 62 | 1 | 1 | 62
State/Territory Preparedness staff (data collection) | 62 | 288 | 3 | 53,568
Total |  | 386 |  | 635,630

The burden was determined by asking the States that participated in a pilot study to report who collected the data and how long it took them to gather the information.

Terry Nicolosi,
Paperwork Reduction Act Reports Clearance Officer, Office of the Secretary.

[FR Doc. E9-20073 Filed 8-19-09; 8:45 am]

BILLING CODE 4150-37-P